DEPARTMENT OF COMMERCE

International Trade Administration

[A-570-851]

Final Results of Antidumping Duty Administrative Review for Two Manufacturers/Exporters: Certain Preserved Mushrooms From the People's Republic of China

AGENCY: Import Administration, International Trade Administration, Department of Commerce.

ACTION: Notice of final results of antidumping duty administrative review.

SUMMARY: On June 30, 2000, the Department of Commerce published the preliminary results of the administrative review of the antidumping duty order on certain preserved mushrooms from the People's Republic of China for exports by Mei Wei Food Industry Co., Ltd. and Tak Fat Trading Co. entered during the period May 7, 1998, through January 31, 2000 (65 FR 40609), on an expedited basis.

We gave interested parties an opportunity to comment on the preliminary results and received comments from the respondents, and rebuttal comments from the petitioners. Based on our analysis of the comments received, the final results are unchanged from the preliminary results. The dumping margin applicable to the exports under review is the PRC-wide rate listed below in the section entitled “Final Results of Review.” These results do not cover exports of certain preserved mushrooms from the People's Republic of China by China Processed Food Import & Export Co. and Gerber Food (Yunnan) Co., Ltd. during the period August 5, 1998, through January 31, 2000.

EFFECTIVE DATE: August 17, 2000.

FOR FURTHER INFORMATION CONTACT: David J. Goldberger or Rebecca Trainor, Import Administration, International Trade Administration, U.S. Department of Commerce, 14th Street and Constitution Avenue, NW., Washington, DC 20230; telephone: (202) 482-4136 or (202) 482-4007, respectively.

SUPPLEMENTARY INFORMATION:

Applicable Statute

Unless otherwise indicated, all citations to the Tariff Act of 1930, as amended (the Act), are references to the provisions effective January 1, 1995, the effective date of the amendments made to the Act by the Uruguay Round Agreements Act. In addition, unless otherwise indicated, all citations to the Department of Commerce's (the Department's) regulations are to 19 CFR Part 351 (1999).

Background

On June 30, 2000, the Department published the preliminary results of the administrative review of the antidumping duty order on certain preserved mushrooms from the People's Republic of China (PRC) for two manufacturer/exporters (65 FR 40609). We invited interested parties to comment on the preliminary results of review. On July 10, 2000, we received comments from the respondents Mei Wei Food Industry Co., Ltd. (Mei Wei) and Tak Fat Trading Co. (Tak Fat). The petitioners ¹ submitted rebuttal comments on July 17, 2000. The Department has now completed this review with respect to exports of certain preserved mushrooms from the PRC by Mei Wei and Tak Fat that were entered during the period May 7, 1998, through January 31, 2000, in accordance with section 751 of the Act and 19 CFR 351.213. The administrative review of certain preserved mushrooms which were exported from the PRC by China Processed Food Import & Export Co. (CPF) and Gerber Food (Yunnan) Co. (Gerber) during the period August 5, 1998, through January 31, 2000, continues and our preliminary results for these reviews will be issued by October 31, 2000.

¹ The petitioners are the Coalition for Fair Preserved Mushroom Trade which includes the American Mushroom Institute and the following domestic companies: L.K. Bowman, Inc., Nottingham, PA; Modern Mushrooms Farms, Inc., Toughkernamon, PA; Monterrey Mushrooms, Inc., Watsonville, CA; Mount Laurel Canning Corp., Temple, PA; Mushrooms Canning Company, Kennett Square, PA; Southwood Farms, Hockessin, DE; Sunny Dell Foods, Inc., Oxford, PA; United Canning Corp., North Lima, OH.

Scope of the Review

The products covered by this review are certain preserved mushrooms whether imported whole, sliced, diced, or as stems and pieces. The preserved mushrooms covered under this review are the species Agaricus bisporus and Agaricus bitorquis. “Preserved mushrooms” refer to mushrooms that have been prepared or preserved by cleaning, blanching, and sometimes slicing or cutting. These mushrooms are then packed and heated in containers including but not limited to cans or glass jars in a suitable liquid medium, including but not limited to water, brine, butter or butter sauce. Preserved mushrooms may be imported whole, sliced, diced, or as stems and pieces. Included within the scope of this review are “brined” mushrooms, which are presalted and packed in a heavy salt solution to provisionally preserve them for further processing.

Excluded from the scope of this review are the following: (1) All other species of mushroom, including straw mushrooms; (2) all fresh and chilled mushrooms, including “refrigerated” or “quick blanched mushrooms”; (3) dried mushrooms; (4) frozen mushrooms; and (5) “marinated,” “acidified” or “pickled” mushrooms, which are prepared or preserved by means of vinegar or acetic acid, but may contain oil or other additives.²

² On June 19, 2000, the Department affirmed that “marinated,” “acidified,” or “pickled” mushrooms containing less than 0.5 percent acetic acid are within the scope of the antidumping duty order. See “Recommendation Memorandum—Final Ruling of Request by Tak Fat, et al. for Exclusion of Certain Marinated, Acidified Mushrooms from the Scope of the Antidumping Duty Order on Certain Preserved Mushrooms from the People's Republic of China,” dated June 19, 2000.

The merchandise subject to this review is currently classifiable under subheadings 2003.1000.27, 2003.1000.31, 2003.1000.37, 2003.1000.43, 2003.1000.47.2003.1000.53, and 0711.90.4000 of the Harmonized Tariff Schedule of the United States (“HTS”). Although the HTS subheadings are provided for convenience and Customs purposes, the written description of the scope of this review is dispositive.

Analysis of Comments Received

All issues raised in the case and rebuttal briefs by parties to this administrative review are addressed in the “Issues and Decision Memorandum” (Decision Memorandum) from Richard W. Moreland, Deputy Assistant Secretary, Import Administration, to Troy H. Cribb, Acting Assistant Secretary for Import Administration, dated August 11, 2000, which is adopted by this notice. A list of the issues which parties have raised and to which we have responded, all of which are in the Decision Memorandum, is attached to this notice as an Appendix. Parties can find a complete discussion of all issues raised in this review and the corresponding recommendations in this public memorandum which is on file in the Central Records Unit in Room B-099 of the main Commerce Building and accessible on the Web at http://ia.ita.doc.gov/frn. The paper copy and electronic version of the Decision Memorandum are identical in content.

Final Results of Review

Based on our analysis of the comments received, the final results remain unchanged from the preliminary results, as we have applied the PRC-wide rate to exports of the subject merchandise by Mei Wei and Tak Fat for the reasons described in the preliminary results (see 65 FR 40610-40611; June 30, 2000). The following margin applies for the period May 7, 1998, through January 31, 2000, for those imports of subject merchandise where the exporter is Mei Wei or Tak Fat: ³

³ As discussed in the preliminary results, this determination does not constitute a finding of separate rates for Mei Wei or Tak Fat in this segment of the proceeding.

Exporter/manufacturer | Margin percentage
PRC-wide Rate | 198.63

The Department shall determine, and the Customs Service shall assess, antidumping duties on all appropriate entries during the period of review, except for those entries made between May 7, 1998, through August 4, 1998, which are enjoined under Tak Fat v. United States, CIT court no. 99-03-00143. The Department will issue appraisement instructions directly to the Customs Service. Upon publication of the final results of this administrative review, the cash deposit rate for all shipments by Mei Wei or Tak Fat of the subject merchandise entered, or withdrawn from warehouse, for consumption on or after the publication date, will be the PRC-wide rate stated in the final results of this administrative review, as provided for by section 751(a)(1) of the Act. These deposit requirements, when imposed, shall remain in effect until publication of the final results of the next administrative review for these companies.

This notice serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This administrative review and notice are in accordance with sections 751(a)(1) and 777(i)(1) of the Act.

Dated: August 11, 2000.
Troy H. Cribb,
Acting Assistant Secretary for Import Administration.

Appendix

List of Comments and Issues in the Decision Memorandum

Comment 1: Whether Reviewed Entries Are Within the Scope of the Order

Comment 2: Use of Adverse Facts Available

Comment 3: Enjoined Entries During the “Critical Circumstances” Period

[FR Doc. 00-20982 Filed 8-16-00; 8:45 am]

BILLING CODE 3510-DS-P